DEPARTMENT OF DEFENSE

Office of the Secretary

[DoD-2006-OS-0183]

Proposed Collection; Comment Request

AGENCY: Defense Threat Reduction Agency (DTRA), DoD.

ACTION: Notice.

In compliance with Section 3506(c)(2)(A) of the Paperwork Reduction Act of 1995, the Defense Threat Reduction Agency (DTRA) announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received on October 20, 2006.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the associated collection instrument, please write to the Defense Threat Reduction Agency, Office of Small Business Programs (DTRA/B), 8725 John J. Kingman Road MSC 6201, Ft. Belvoir, VA 22060-6201, or call (703) 767-7889, or e-mail BusinessRelations@dtra.mil.

Title and OMB Number: DTRA Industry Partner Questionnaire; OMB Control Number 0704-TBD.

Needs and Uses: This information collection instrument will allow DTRA to benchmark our contract relationships and request best practices from our industry partners via an electronic questionnaire. Further, the questionnaire will result in more constructive agendas for subsequent DTRA industry outreach conferences.

Affected Public: Business or other for-profit; not-for-profit institutions.

Annual Burden Hours: 70.

Number of Respondents: 209.

Responses per Respondent: 1.

Average Burden per Response: .33 hours.

Frequency: On Occasion.

SUPPLEMENTARY INFORMATION:

Summary of Information Collection

Respondents are small businesses, large businesses, and universities that have received DTRA contract awards greater than $100,000 since October 1, 2002, major Indefinite Delivery Indefinite Quantity (IDIQ) subcontractors, and vendors that have bid unsuccessfully on DTRA contracts greater than $100,000 since October 1, 2002. DTRA plans to utilize this survey information in subsequent business process reengineering initiatives which leverage our industry partnerships to better support the warfighter. Further, DTRA is required under the Defense Federal Acquisition Regulation Supplement (DFARS) to maintain an active industry outreach program. DTRA plans to use the survey results to develop constructive agendas for subsequent outreach conferences with our contractor community.

Dated: August 14, 2006.
Patricia L. Toppings,
Alternate OSD Federal Register Liaison Officer, Department of Defense.

[FR Doc. 06-7042 Filed 8-18-06; 8:45 am]

BILLING CODE 5001-06-M